DEPARTMENT OF TRANSPORTATION

Federal Aviation Administration

RTCA Special Committee 200: Integrated Modular Avionics (IMA)/EUROCAE WG-60

AGENCY: Federal Aviation Administration (FAA), DOT.

ACTION: Notice of RTCA Special Committee 200 meeting.

SUMMARY: The FAA is issuing this notice to advise the public of a meeting of RTCA Special Committee 200: Integrated Modular Avionics.

DATES: The meeting will be held on July 20-23, 2004 from 9 a.m. to 5 p.m.

ADDRESSES: The meeting will be held at RTCA, 1828 L Street, NW., Suite 805, Washington, DC, 20036-5133.

FOR FURTHER INFORMATION CONTACT: (1) RTCS Secretariat, 1828 L Street, NW., Suite 805, Washington, DC 20036-5133; telephone (202) 833-9339; fax (202) 833-9434; web site http://www.rtca.org.

SUPPLEMENTARY INFORMATION: Pursuant to section 10(a)(2) of the Federal Advisory Committee Act (Pub. L. 92-463, 5 U.S.C., appendix 2), notice is hereby given for a Special Committee 200 meeting. The agenda will include:

• July 20:

• Editorial Team Meeting

• Subgroups meet in working sessions

• July 21:

• Opening Session (Welcome, Introductory and Administrative Remarks, Review Agenda Summary of Previous Meeting)

• Review Action Items

• Reports on Related Committees Activities

• Review and Approve Subgroup Actitivites

• Review Status of Document

• Assignment of Action Items

• Subgroups Meet in Working Sessions

• July 22:

• Subgroups Meet in Working Sessions

• Inter-Subgroups Meet

• July 23:

• Subgroup Reports

• Review Status of Document

• Plans for Editorial Group Activities

• Review and Assignment of Action Items

• Closing Session (Make Assignments, Date and Place of Next Meeting, Closing Remarks, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 23, 2004.
Robert Zoldos,
FAA Systems Engineer, RTCA Advisory Committee.

[FR Doc. 04-16108 Filed 7-15-04; 8:45 am]

BILLING CODE 4910-13-M